DEPARTMENT OF HOMELAND SECURITY

Federal Emergency Management Agency

[Docket ID FEMA-2007-0007]

National Response Framework

AGENCY: Federal Emergency Management Agency, DHS.

ACTION: Extension of comment period.

SUMMARY: The Federal Emergency Management Agency (FEMA) is extending the comment period on the revised National Response Plan now known as the National Response Framework (NRF). The NRF was drafted to build upon the current National Response Plan, incorporate lessons-learned from recent disasters, and to articulate more clearly the roles of the States, tribal, and local jurisdictions and the private sector to guide a successful response to natural disasters or terrorist attacks. The original comment period was scheduled to conclude on October 11, 2007. FEMA is extending the comment period until October 22, 2007.

DATES: This notice is effective October 5, 2007. Comments must be received by October 22, 2007.

ADDRESSES: The NRF is available online in the NRF Resource Center located at http://www.fema.gov/NRF or http://www.fema.gov/emergency/NRF, as well as in the docket for this notice at www.regulations.gov. You may also view a hard copy of the NRF at the Office of Chief Counsel, Federal Emergency Management Agency, Room 835, 500 C Street, SW., Washington, DC 20472. You may submit comments on the NRF, identified by Docket ID FEMA-2007-0007, by one of the following methods:

Federal eRulemaking Portal: http://www.regulations.gov. Follow the instructions for submitting comments.

E-mail: FEMA-POLICY@dhs.gov. Include Docket ID FEMA-2007-0007 in the subject line of the message.

Fax: 866-466-5370.

Mail/Hand Delivery/Courier: Regulation & Policy Team, Office of Chief Counsel, Federal Emergency Management Agency, Room 835, 500 C Street, SW., Washington, DC 20472.

Instructions: All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of www.regulations.gov.

FEMA has also provided a form, available in the docket at www.regulations.gov and in the NRF Resource Center at http://www.fema.gov/NRF or http://www.fema.gov/emergency/NRF. Due to the large number of comments that are expected, FEMA asks that comments be submitted using this form.

Docket: For access to the docket to read background documents or comments received, go to the Federal eRulemaking Portal at http://www.regulations.gov. Submitted comments may also be inspected at FEMA, Office of Chief Counsel, Room 835, 500 C Street, SW., Washington, DC 20472.

FOR FURTHER INFORMATION CONTACT: Andrew Slaten, Acting National Response Framework Branch Chief, Federal Emergency Management Agency, 999 E Street, NW., Washington, DC 20463, 202-646-8152.

SUPPLEMENTARY INFORMATION: On September 11, 2007, (72 FR 51833), FEMA published a notice of availability and request for comments on the National Response Framework (NRF). FEMA has since received requests to extend the comment period. In order to accommodate these requests and to provide additional opportunities for public comment, FEMA is providing notice that it will continue to accept comments on the NRF until October 22, 2007.

The NRF is available online in the NRF Resource Center located at http://www.fema.gov/NRF or http://www.fema.gov/emergency/NRF, and the docket for this notice at www.regulations.gov (docket number FEMA-2007-0007).

Authority: Homeland Security Act of 2002, as amended, 6 U.S.C. 101, et seq., Homeland Security Presidential Directive-5, Management of Domestic Incidents.

Dated: October 5, 2007.
R. David Paulison,
Administrator, Federal Emergency Management Agency.

[FR Doc. E7-20177 Filed 10-11-07; 8:45 am]

BILLING CODE 9110-21-P